ENVIRONMENTAL PROTECTION AGENCY

[EPA-HQ-OPP-2024-0007; FRL-12450-01-OCSPP]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period April 1, 2024, to September 30, 2024, to control unforeseen pest outbreaks.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed after FOR FURTHER INFORMATION CONTACT.

B. How can I get copies of this document and other related information?

The docket for this action, identified by docket identification (ID) number EPA-HQ-OPP-2024-0007, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

II. Background

EPA has granted or denied emergency exemptions to the following State and Federal agencies. The emergency exemptions may take the following form: specific, quarantine, public health, or crisis.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

American Samoa

Environmental Protection Agency

Public health exemption: EPA authorized the use of 95,000 units of the unregistered product, Guardian, a hanging polyester mesh emanator that passively releases TRANSFLUTHRIN in communities to protect residents from mosquitoes that may transmit the dengue virus. This authorization was effective July 9, 2024, to July 9, 2025.

Arkansas

Department of Agriculture

Crisis Exemption: EPA concurred upon a crisis exemption declared by the Arkansas Department of Agriculture for the use of methoxyfenozide on rice to control fall armyworms. The authorization was effective July 11, 2024.

Specific Exemption: EPA authorized the use of methoxyfenozide on a maximum of 250,000 acres of rice to control fall armyworms. Permanent tolerances in connection with a previous action are established in 40 CFR 180.544 to support this emergency use. The authorization was effective September 4, 2024, to September 30, 2024

California

Department of Pesticide Regulation

Crisis Exemption: EPA concurred upon a crisis exemption declared by the California Department of Pesticide Regulation for the use of afidopyropen on field-grown strawberries to control lygus bugs. The authorization was effective May 20, 2024.

Specific Exemption: EPA authorized the use of afidopyropen on a maximum of 17,000 acres of field-grown strawberries to control lygus bugs. A time-limited tolerance supports this emergency use and is established in 40 CFR 180.700(b). The authorization was effective June 13, 2024, to October 31, 2024.

Colorado

Department of Agriculture

Specific Exemption: On September 12, 2024, EPA denied a specific exemption request for use of the unregistered product MAGNET, containing the unregistered active ingredients alpha-pinene, anisyl alcohol, butyl salicylate, cineole (eucalyptol), and phenylacetaldehyde as well as the registered active ingredient d-limonene on up to 1,400 acres of sweet corn as an insect attractant to manage corn earworm. Because an unregistered pesticide was requested, a Notice of Receipt, with opportunity for public comment (required by 40 CFR 166.24), published in the Federal Register on June 7, 2024 (89 FR 48610) (FRL-11998-01-OCSPP). The public comment period closed on June 24, 2024. EPA received two comments, one negative comment was submitted anonymously concerning potential risk and one from a federal government stakeholder supported allowing the use.

Florida

Department of Agriculture and Consumer Services

Specific Exemption: EPA authorized the use of clothianidin on a maximum of 75,000 acres of immature (3 to 5 years old) citrus trees to control the Asian citrus psyllid, the vector of huanglongbing (HLB, or citrus greening) disease. A time-limited tolerance in connection with this action supports this emergency use and is established in 40 CFR 180.586(b). Because the applicant proposed a use that has been requested in 5 or more previous years, a Notice of Receipt, with opportunity for public comment in accordance with the requirements at 40 CFR 166.24(a)(7)(i), published in the Federal Register on December 29, 2023 (88 FR 80717) FRL-11634-01-OCSPP). The public comment period closed on January 16, 2024. Two public comments were received: one from a nongovernmental organization that included substantive supporting material objected to the use and the other from a federal government stakeholder supported the use. EPA posted a document addressing the comments in response to the NOR to the docket, as well as EPA's evaluations associated with the use, which may be accessed at https://www.regulations.gov/docket/EPA-HQ-OPP-2023-0597. The authorization was effective April 16, 2024, to April 16, 2025

Hawaii

Department of Agriculture

Crisis Exemption: EPA concurred upon a crisis exemption declared by the Hawaii Department of Agriculture for the use of cypermethrin on the crowns of ornamental palm trees to control coconut rhinoceros beetles. This authorization was effective November 13, 2023.

Specific Exemption: EPA authorized the use of the unregistered product, DQB Males (Wolbachia pipientis DQB strain (wAlbB) contained in live adult male Culex quinquefasciatus mosquitoes) on a maximum of 20,000 acres of State, Federal, and private lands to control mosquitoes (Cx. quinquefasciatus). Because the applicant proposed a use of a new chemical, a Notice of Receipt, with opportunity for public comment in accordance with the requirements at 40 CFR 166.24(a)(1), published in the Federal Register on February 8, 2024 (89 FR 8675) (FRL-11721-01-OCSPP). The public comment period closed on February 23, 2024. Eighty-seven public comments were received. EPA posted a document addressing the comments in response to the NOR to the docket, as well as EPA's evaluations associated with the use, which may be accessed at https://www.regulations.gov/docket/EPA-HQ-OPP-2024-0035. The authorization was effective April 25, 2024, to April 25, 2025.

Quarantine Exemption: EPA authorized the use of cypermethrin on a maximum of 10,000 acres of ornamental palm trees, applied on the crowns via unmanned aerial vehicles, to control coconut rhinoceros beetles. The authorization was effective April 22, 2024, to April 22, 2027.

Louisiana

Department of Agriculture and Forestry

Crisis Exemption: EPA concurred upon a crisis exemption declared by the Louisiana Department of Agriculture and Forestry for the use of methoxyfenozide on rice to control fall armyworms. The authorization was effective July 16, 2024.

Specific Exemption: EPA authorized the use of methoxyfenozide on a maximum of 40,000 acres of rice to control fall armyworms. Permanent tolerances in connection with a previous action are established in 40 CFR 180.544 to support this emergency use. The authorization was effective September 4, 2024, to September 30, 2024.

Michigan

Department of Agriculture and Rural Development

Specific Exemption: EPA authorized the use of acifluorfen on a maximum of 48,000 acres of sugar beets for postemergence control of invasive Amaranthus (pigweed) spp., water hemp, and Palmer amaranth. Time-limited tolerances in connection with a previous action support this emergency use and are established in 40 CFR 180.383(b). The authorization was effective May 1, 2024, to July 31, 2024.

Minnesota

Department of Agriculture

Specific Exemption: EPA authorized the use of acifluorfen on a maximum of 65,000 acres of sugar beets for postemergence control of glyphosate-resistant water hemp. Time-limited tolerances in connection with a previous action support this emergency use and are established in 40 CFR 180.383(b). The authorization was effective May 20, 2024, to July 31, 2024.

Mississippi

Department of Agriculture and Commerce

Crisis Exemption: EPA concurred upon a crisis exemption declared by the Mississippi Department of Agriculture and Commerce for the use of methoxyfenozide on rice to control fall armyworms. The authorization was effective July 11, 2024.

Specific Exemption: EPA authorized the use of methoxyfenozide on a maximum of 60,000 acres of rice to control fall armyworms. Permanent tolerances in connection with a previous action are established in 40 CFR 180.544 to support this emergency use. The authorization was effective September 4, 2024, to September 30, 2024.

Missouri

Department of Agriculture

Crisis Exemption: EPA concurred upon a crisis exemption declared by the Missouri Department of Agriculture for the use of methoxyfenozide on rice to control fall armyworms. The authorization was effective July 18, 2024.

Specific Exemption: EPA authorized the use of methoxyfenozide on a maximum of 60,000 acres of rice to control fall armyworms. Permanent tolerances in connection with a previous action are established in 40 CFR 180.544 to support this emergency use. The authorization was effective September 4, 2024, to September 30, 2024.

North Dakota

Department of Agriculture

Specific Exemption: EPA authorized the use of acifluorfen on a maximum of 20,000 acres of sugar beets for postemergence control of glyphosate resistant water hemp. Time-limited tolerances in connection with a previous action support this emergency use and are established in 40 CFR 180.383(b). The authorization was effective May 27, 2024, to July 31, 2024.

Puerto Rico

Department of Agriculture

Public Health Exemption: EPA authorized the use of 750,000 units of the unregistered product, Guardian, a hanging polyester mesh emanator that passively releases TRANSFLUTHRIN in communities to protect residents from mosquitoes that may transmit the dengue virus. This authorization was effective June 20, 2024, to June 20, 2025.

B. Federal Departments and Agencies

United States Department of Agriculture

Animal and Plant Health Inspection Service

Quarantine Exemptions: EPA authorized the use of acetic acid (vinegar) on hard nonporous surfaces to control African swine fever virus. The authorization was effective June 10, 2024, to June 10, 2027.

EPA authorized the use of sodium hypochlorite on porous and nonporous, nonfood/feed contact surfaces to control foot-and mouth disease virus (FMDv), African swine fever virus (ASFv), and classical swine fever virus (CSFv). The authorization was effective September 17, 2024, to September 17, 2027.

EPA authorized the use of sodium hydroxide on hard, nonporous, nonfood/feed contact surfaces to control prions. The authorization was effective September 25, 2024, to September 25, 2027.

EPA authorized the use of sodium hypochlorite on hard, nonporous, nonfood/feed contact surfaces to control prions. The authorization was effective September 25, 2024, to September 25, 2027.

C. Annual Report of Crisis Exemptions Declared and Revoked

Seven crisis exemptions were declared, and none were revoked between November 6, 2023, to July 18, 2024.

Authority: 7 U.S.C. 136 et seq.

Dated: December 5, 2024.
Charles Smith,
Director, Registration Division, Office of Pesticide Programs.

[FR Doc. 2024-29019 Filed 12-10-24; 8:45 am]

BILLING CODE 6560-50-P